NUCLEAR REGULATORY COMMISSION

[NRC-2015-0251]

Generic Aging Lessons Learned for Subsequent License Renewal Report and Standard Review Plan for Review of Subsequent License Renewal Applications for Nuclear Power Plants

AGENCY: Nuclear Regulatory Commission.

ACTION: Supplemental staff guidance; request for comment.

SUMMARY: The U.S. Nuclear Regulatory Commission (NRC) is soliciting public comment on supplemental guidance to draft NUREG-2191, “Generic Aging Lessons Learned for Subsequent License Renewal (GALL-SLR) Report,” Vol. I and II, and draft NUREG-2192, “Standard Review Plan for Review of Subsequent License Renewal Applications for Nuclear Power Plants” (SRP-SLR). This supplemental guidance was developed subsequent to the release of draft NUREG-2191 and NUREG-2192 on December 23, 2015. Changes to the supplemental guidance will be incorporated into the final versions of NUREG-2191 and NUREG-2192.

DATES: Comments must be filed by May 31, 2016. Comments received after this date will be considered, if it is practical to do so, but the Commission is able to ensure consideration only for comments received on or before this date.

ADDRESSES: You may submit comments by any of the following methods:

• Federal Rulemaking Web site: Go to http://www.regulations.gov and search for Docket ID NRC-2015-0251. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: William Holston, Office of Nuclear Reactor Regulation; telephone: 301-415-8573; email: William.Holston@nrc.gov and Brian Allik, Office of Nuclear Reactor Regulation, telephone: 301-415-1082; email: Brian.Allik@nrc.gov. Both are staff of the U.S. Nuclear Regulatory Commission, Washington, DC 20555-0001;

SUPPLEMENTARY INFORMATION:

I. Obtaining Information and Submitting Comments

A. Obtaining Information

Please refer to Docket ID NRC-2015-0251 when contacting the NRC about the availability of information regarding this action. You may obtain publicly-available information related to this action by any of the following methods:

• Federal Rulemaking Web site: Go to http://www.regulations.gov and search for Docket ID NRC-2015-0251.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft “GALL-SLR and SRP-SLR Supplemental Staff Guidance” is available in ADAMS under Accession No. ML16041A090.

• NRC's PDR: You may examine and purchase copies of public documents at the NRC's PDR, Room O1-F21, One White Flint North, 11555 Rockville Pike, Rockville, Maryland 20852.

• NRC's Guidance for License Renewal and Subsequent License Renewal site: Guidance for subsequent license renewal documents are also available online under the “Draft Guidance Documents for Subsequent License Renewal for Public Comment” heading at http://www.nrc.gov/reactors/operating/licensing/renewal/slr/guidance.html.

B. Submitting Comments

Please include Docket ID NRC-2015-0251 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

On December 23, 2015, the NRC published in the Federal Register (80 FR 79956) the draft NUREG-2191, “Generic Aging Lessons Learned for Subsequent License Renewal (GALL-SLR) Report,” Vol. I and II and draft NUREG-2192, “Standard Review Plan for Review of Subsequent License Renewal Applications for Nuclear Power Plants” (SRP-SLR), which are available under ADAMS Accession Nos. ML15348A111, ML15348A153, and ML15348A265, respectively. These draft documents describe methods acceptable to the NRC staff for granting a subsequent license renewal (i.e., license renewal following 60 years of licensed operation) in accordance with the NRC's license renewal regulations, as well as techniques used by the NRC staff in evaluating applications for subsequent license renewal.

The changes described in the GALL-SLR and SRP-SLR Supplemental Staff Guidance were developed subsequent to the release of the draft versions of NUREG-2191 and NUREG-2192 and are being released for public comments. Comments received on the changes proposed in this document will be addressed along with comments received on the draft versions of NUREG-2191 and NUREG-2192. The changes will then be incorporated into the final versions of NUREG-2191 and NUREG-2192.

The topical areas addressed in this supplement to the publically-available GALL-SLR Report and SRP-SLR are as follows: (A) selective leaching of ductile iron; (B) cracking due to stress corrosion cracking and intergranular stress corrosion cracking; (C) changes to further evaluation, aging management program (AMP) XI.M29, “Aboveground Metallic Tanks,” AMP XI.M36, “External Surfaces Monitoring of Mechanical Components,” and aging management review (AMR) line items to address cracking and loss of material for aluminum and stainless steel components; (D) a new title for AMP XI.M29; (E) issuance of LR-ISG-2015-01, “Changes to Buried and Underground Piping and Tank Recommendations;” (F) minor technical and editorial changes to AMR line items and AMPs; and (G) response to certain initial comments from the industry as presented at a public meeting on January 21, 2016.

III. Backfitting and Issue Finality

This supplement contains guidance on one acceptable approach for managing the associated aging effects during subsequent periods of extended operation for components within the scope of subsequent license renewal. Issuance of this supplemental guidance does not constitute backfitting as defined in 10 CFR 50.109(a)(1), and the NRC staff did not prepare a backfit analysis for issuing this supplement. More information is provided under the “Backfitting and Issue Finality” section of the supplemental guidance.

Dated at Rockville, Maryland, this 23rd day of March, 2016.
For the Nuclear Regulatory Commission.
Dennis C. Morey,
Chief, Aging Management of Reactor Systems Branch, Division of License Renewal, Office of Nuclear Reactor Regulation.

[FR Doc. 2016-07052 Filed 3-28-16; 8:45 am]

BILLING CODE 7590-01-P